DEPARTMENT OF THE INTERIOR

Bureau of Land Management

[UT-020-1430-ET; UTU-79765]

Notice of Proposed Withdrawal and Opportunity for Public Meeting; Utah

AGENCY: Bureau of Land Management, Interior.

ACTION: Notice.

SUMMARY: The Secretary of the Interior proposes to withdraw on behalf of the Bureau of Land Management (BLM) approximately 79.43 acres of public land and approximately 30 acres of non-Federal land, if acquired, to protect the Manning Canyon Tailings Repository while the BLM completes land use planning for the area. This notice temporarily segregates the land for up to 2 years from location and entry under the United States mining laws while the withdrawal application is being processed.

DATES: Comments should be received on or before November 5, 2007.

ADDRESS: Comments and meeting requests should be sent to the BLM Salt Lake Field Office Manager, 2370 South 2300 West, Salt Lake City, Utah 84119.

FOR FURTHER INFORMATION CONTACT: Mike Nelson, BLM Salt Lake Field Office, 801-977-4355.

SUPPLEMENTARY INFORMATION: The applicant for the above withdrawal is the BLM at the address stated above. The petition/application requests the Secretary of the Interior to withdraw, for a period of 5 years, the following described public land from location and entry under the United States mining laws, subject to valid existing rights:

Salt Lake Meridian

T. 6 S., R. 3 W., Sec. 15, lots 12, 13, 14 and 17, W½NE¼SE¼, NE¼SW¼SE¼, and NW¼SE¼SE¼.

The areas described aggregate 79.43 acres in Utah County.

Approximately 30 acres of the following described private land will be acquired by the United States and included in the withdrawal:

Salt Lake Meridian

T. 6 S., R. 3 W., Sec. 15, that portion of Mineral Patent Nos. 27720, 28065, and 35708 located within SW¼NE¼, E½SE¼NW¼, NE¼NE¼SW¼, and NW¼SE¼.

The total areas described aggregate approximately 109.43 acres in Utah County.

The BLM petition/application has been approved by the Assistant Secretary of the Interior. Therefore, it constitutes a withdrawal proposal of the Secretary of the Interior (43 CFR 2310.1-3(e)).

The purpose of the proposed withdrawal would be to protect the Federal investment in the Manning Canyon Tailings Repository until the BLM completes land use planning for the area.

The use of a right-of-way, an interagency agreement, or a cooperative agreement would not adequately constrain non-discretionary uses and would not provide adequate protection of the Federal investment in the facilities constructed on the land.

There are no suitable alternative sites since the repository is located on the above described land.

No water rights would be needed to fulfill the purpose of the requested withdrawal.

The preliminary mineral potential evaluation found the above described land to have a low potential for locatable minerals.

Records relating to the proposed withdrawal can be examined by interested parties by contacting Mike Nelson at the above address and or phone number.

For a period of 90 days from the date of publication of this notice, all persons who wish to submit comments, suggestions, or objections in connection with the proposed withdrawal may present their views in writing to the BLM Salt Lake Field Manager at the address noted above.

Comments, including names and street addresses of respondents, will be available for public review at the BLM Salt Lake Field Office at the address noted above during regular business hours, 7:30 a.m. to 4:30 p.m., Monday through Friday, except holidays. Individual respondents may request confidentiality. Before including your address, phone number, e-mail address, or other personal identifying information in your comment, you should be aware that your entire comment—including your personal identifying information—may be made publicly available at any time. While you can ask us in your comments to withhold your personal identifying information from public review, we cannot guarantee that we will be able to do so.

Notice is hereby given that an opportunity for a public meeting is afforded in connection with the proposed withdrawal. All interested persons who desire a public meeting for the purpose of being heard on the proposed withdrawal must submit a written request to the BLM Salt Lake Field Manager at the address noted above within 90 days from the date of publication of this notice. If the authorized officer determines a public meeting will be held, a notice of the time and place will be published in the Federal Register and a local newspaper at least 30 days before the scheduled date of the meeting.

This withdrawal proposal will be processed in accordance with the regulations set forth in 43 CFR part 2300.

For a period of 2 years from the date of publication of this notice in the Federal Register, the land will be segregated as specified above unless the application is denied or canceled or the withdrawal is approved prior to that date. The temporary land uses which may be permitted during this segregative period include licenses, permits, rights-of-way, and disposal of vegetative resources other than under the mining laws.

(Authority: 43 CFR part 2310.3-1)

Dated: July 16, 2007.
Kent Hoffman,
Deputy State Director, Lands and Minerals.

[FR Doc. E7-15275 Filed 8-6-07; 8:45 am]

BILLING CODE 4310-$$-P